DEPARTMENT OF ENERGY

Federal Energy Regulatory Commission

Sunshine Act Meeting

The following notice of meeting is published pursuant to section 3(a) of the government in the Sunshine Act (Pub. L. 94-409), 5 U.S.C. 552b:

AGENCY HOLDING MEETING: Federal Energy Regulatory Commission.

DATE AND TIME: June 20, 2013, 10:00 a.m.

PLACE: Room 2C, 888 First Street NE., Washington, DC 20426.

STATUS: Open.

MATTERS TO BE CONSIDERED: Agenda * NOTE—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

995th—Meeting, Regular Meeting, June 20, 2013, 10:00 a.m.
Item No. | Docket No. | Company
ADMINISTRATIVE
A-1 | AD02-1-000 | Agency Business Matters.
A-2 | AD02-7-000 | Customer Matters, Reliability, Security and Market Operations.
A-3 | AD12-16-000 | Capacity Deliverability Across the Midwest Independent Transmission System Operator, Inc./PJM Interconnection, L.L.C. Seam.
A-4 | AD12-12-000 | Coordination Between Natural Gas and Electricity Markets.
ELECTRIC
E-1 | ER13-93-000 | Avista Corporation.
| ER13-94-000
| ER13-98-000 | Puget Sound Energy, Inc.
| ER13-99-000
| ER13-836-000 | MATL LLP.
| NJ13-1-000 | United States Department of Energy—Bonneville Power Administration.
E-2 | ER13-80-000 | Tampa Electric Company.
| ER13-86-000 | Duke Energy Carolinas, LLC.
| ER13-104-000 | Florida Power & Light Company.
| NJ13-2-000 | Orlando Utilities Commission.
E-3 | EC12-145-000 | ITC Holdings Corp.
| EL12-107-000 | Entergy Corporation.
E-4 | ER12-2681-000 | ITC Holdings Corp. Entergy Corporation. Midwest Independent Transmission System Operator, Inc.
| ER13-948-000 | Entergy Services, Inc.
| ER13-782-000 | ITC Arkansas LLC. ITC Texas LLC. ITC Louisiana LLC. ITC Mississippi LLC.
E-5 | ER12-2682-000 | Midwest Independent Transmission System Operator, Inc.
E-6 | EL13-52-000 | Western Electricity Coordinating Council.
E-7 | RM13-8-000 | Electric Reliability Organization Proposal to Retire Requirements in Reliability Standards.
E-8 | RD13-3-000 | North American Electric Reliability Corporation.
E-9 | RC11-6-004 | North American Electric Reliability Corporation.
E-10 | AC11-46-000 | Ameren Corporation.
E-11 | ER13-388-001 | Sky River, LLC.
| ER13-388-002
E-12 | ER13-941-000 | San Diego Gas & Electric Company.
E-13 | ER12-2693-000 | Entergy Arkansas, Inc. Entergy Gulf States Louisiana L.L.C. Entergy Louisiana, LLC. Entergy Mississippi, Inc. Entergy New Orleans, Inc. Entergy Texas, Inc.
E-14 | ER12-1643-001 | ISO New England Inc. and New England Power Pool.
E-15 | EL12-78-001 | Gerry E. Greenfield Jr. v. Benton County, Washington.
E-16 | EL12-74-001 | Idaho Wind Partners 1, LLC.
HYDRO
H-1 | P-2144-040 | City of Seattle, Washington.
H-2 | P-2114-257 | Public Utility District No. 2 of Grant County, Washington.
H-3 | P-2146-111 | Alabama Power Company.
| P-618-000
| P-82-000
CERTIFICATES
C-1 | CP13-53-000 | Northern Natural Gas Company.
C-2 | CP13-94-000 | Kinder Morgan Texas Pipeline LLC.

Issued June 13, 2013.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2013-14542 Filed 6-14-13; 11:15 am]

BILLING CODE 6717-01-P